DEPARTMENT OF COMMERCE

International Trade Administration

[A-201-842]

Large Residential Washers From Mexico: Amended Final Results of the Antidumping Duty Administrative Review; 2012-2014

AGENCY: Enforcement and Compliance, International Trade Administration, Department of Commerce.

SUMMARY: The Department of Commerce (the Department) is amending the final results of the administrative review of the antidumping duty (AD) order on large residential washers (LRWs) from Mexico to correct ministerial errors. The period of review (POR) is August 3, 2012, through January 31, 2014.

DATES: Effective date: November 5, 2015.

FOR FURTHER INFORMATION CONTACT: Brian Smith or Brandon Custard, AD/CVD Operations, Office II, Enforcement and Compliance, International Trade Administration, U.S. Department of Commerce, 14th Street and Constitution Avenue NW., Washington, DC 20230; telephone: (202) 482-1766 or (202) 482-1823, respectively.

SUPPLEMENTARY INFORMATION:

Background

On September 8, 2015, the Department issued the final results of the administrative review of the AD order on LRWs from Mexico.¹ On September 10, 2015, the Department disclosed to interested parties its calculations for the Final Results.² On September 15, 2015, we received a timely ministerial error allegation from the respondent Electrolux Home Products Corp. N.V. and Electrolux Home Products de Mexico, S.A. de C.V. (collectively, Electrolux) regarding its margin calculation.³ On September 21, 2015, the petitioner filed comments agreeing with this allegation.⁴

¹ See Large Residential Washers From Mexico: Final Results of the Antidumping Duty Administrative Review; 2012-2014, 80 FR 55335 (September 15, 2015) (Final Results), and accompanying Issues and Decision Memorandum (Final Results I&D Memorandum).

² See “Final Results Calculation Memorandum for Electrolux,” dated September 8, 2015.

³ See “Large Residential Washers from Mexico: Ministerial Error Comments,” dated September 15, 2015.

⁴ See “Large Residential Washers from Mexico: Petitioner's Reply To Electrolux's Ministerial Error Submission,” dated September 22, 2015.

Based on our analysis of the allegation, we determined that we made two ministerial errors with respect to currency conversions related to certain movement expenses incurred on third country sales.⁵ As explained in the Ministerial Error Decision Memorandum, correction of these errors changes the results of our differential pricing analysis such that we determined it appropriate to apply the mixed alternative method in making U.S. price and normal value comparisons in calculating the amended weighted-average dumping margin for Electrolux.

⁵ See Memorandum from Brian Smith, Team Leader, to Melissa Skinner, Director, Office II, “2012-2014 Administrative Review of the Antidumping Duty Order on Large Residential Washers from Mexico: Ministerial Error Allegation for the Amended Final Results,” dated concurrently with this notice (Ministerial Error Decision Memorandum).

In the Final Results, we did not address certain comments regarding differential pricing and zeroing raised in the case brief submitted by Electrolux, noting that those issues were moot because the Department continued to apply (since the preliminary results) the standard A-to-A method to calculate Electrolux's weighted-average dumping margin.⁶ However, the correction of the ministerial errors changed the results of our differential pricing analysis such that we are no longer applying the A-to-A method in calculating Electrolux's final amended dumping margin. As a result, the differential pricing and zeroing issues raised by Electrolux are no longer moot and we addressed them in a separate memorandum accompanying this notice. See the Issues and Decision Memorandum ⁷ which is a public document and is on file electronically via Enforcement and Compliance's AD and Countervailing Duty (CVD) Centralized Electronic Service System (ACCESS). ACCESS is available to registered users at http://access.trade.gov and in the Central Records Unit, room B8024 of the main Department of Commerce building. In addition, a complete version of the Issues and Decision Memorandum can be accessed directly at http://enforcement.trade.gov/frn/index.html. The signed Issues and Decision Memorandum and the electronic version of the Issues and Decision Memorandum are identical in content.

⁶ See Final Results I&D Memorandum at Comments 3-5.

⁷ See Memorandum to Christian Marsh, Deputy Assistant Secretary for Antidumping and Countervailing Duty Operations, from Brian Smith and Reza Karamloo, “Issues and Decision Memorandum for the Amended Final Results of the Antidumping Duty Administrative Review of Large Residential Washers from Mexico,” dated concurrently with and adopted by this notice (Issues and Decision Memorandum).

Scope of the Order

The products covered by the order are all large residential washers and certain subassemblies thereof from Mexico. The products are currently classifiable under subheadings 8450.20.0040 and 8450.20.0080 of the Harmonized Tariff System of the United States (HTSUS). Products subject to this order may also enter under HTSUS subheadings 8450.11.0040, 8450.11.0080, 8450.90.2000, and 8450.90.6000. Although the HTSUS subheadings are provided for convenience and customs purposes, the written description of the merchandise subject to this scope is dispositive.⁸

⁸ For a complete description of the scope of the order, see the Final Results I&D Memorandum.

Ministerial Error

Section 751(h) of the Tariff Act of 1930, as amended (the Act), and 19 CFR 351.224(f) define a “ministerial error” as an error “in addition, subtraction, or other arithmetic function, clerical error resulting from inaccurate copying, duplication, or the like, and any similar type of unintentional error which the Secretary considers ministerial.” As discussed above, we analyzed the ministerial error allegation and determined, in accordance with section 751(h) of the Act and 19 CFR 351.224(e), that we made ministerial errors in our calculation of Electrolux's margin in the Final Results due to an inadvertent currency assignment affecting certain movement expenses associated with third country sales.

In accordance with section 751(h) of the Act and 19 CFR 351.224(e), we are amending the Final Results with respect to Electrolux.⁹ The revised weighted-average dumping margin for Electrolux is detailed below.

⁹ See Ministerial Error Decision Memorandum.

Amended Final Results of the Review

As a result of correcting this ministerial error, we determine that the following weighted-average dumping margin exists for the period August 3, 2012, through January 31, 2014:

Manufacturer/Exporter | Weighted- average dumping margin (percent)
Electrolux Home Products Corp. NV/Electrolux Home Products de Mexico, S.A. de C.V | 6.22

Assessment Rates

Pursuant to section 751(a)(2)(C) of the Act, and 19 CFR 351.212(b)(1), the Department has determined, and CBP shall assess, antidumping duties on all appropriate entries of subject merchandise in accordance with the amended final results of this review. The Department intends to issue appropriate assessment instructions directly to CBP 41 days after publication of the amended final results of this administrative review.

For Electrolux, the Department calculated ad valorem importer-specific assessment rates equal to the total amount of dumping calculated for the importer's examined sales and the total entered value of those sales. Where an importer-specific assessment rate is zero or de minimis (i.e., less than 0.5 percent), the Department will instruct CBP to liquidate these entries without regard to antidumping duties pursuant to 19 CFR 351.106(c)(2).

For entries of subject merchandise during the POR produced by Electrolux which it did not know were destined for the United States, we will instruct CBP to liquidate unreviewed entries at the all-others rate if there is no rate for the intermediate company or companies involved in the transaction.¹⁰

¹⁰ See Antidumping and Countervailing Duty Proceedings: Assessment of Antidumping Duties, 68 FR 23954 (May 6, 2003).

Cash Deposit Requirements

The following cash deposit requirements will be effective upon publication of the notice of amended final results of administrative review for all shipments of the subject merchandise entered, or withdrawn from warehouse, for consumption on or after the date of publication, as provided by section 751(a)(2)(C) of the Act: (1) The cash deposit rate for Electrolux will be equal to the weighted-average dumping margin established in the amended final results of this administrative review; (2) for merchandise exported by manufacturers or exporters not covered in this administrative review but covered in a prior segment of the proceeding, the cash deposit rate will continue to be the company-specific rate published for the most recently-completed segment; (3) if the exporter is not a firm covered in this review, a prior review, or the original less-than-fair-value (LTFV) investigation, but the manufacturer is, the cash deposit rate will be the rate established for the most recently-completed segment of this proceeding for the manufacturer of the merchandise; and (4) the cash deposit rate for all other manufacturers or exporters will continue to be 36.52 percent, the all-others rate determined in the LTFV investigation.¹¹ These cash deposit requirements, when imposed, shall remain in effect until further notice.

¹¹ See Large Residential Washers From Mexico and the Republic of Korea: Antidumping Duty Orders, 78 FR 11148 (February 15, 2013) (AD Order).

Notification to Importers Regarding the Reimbursement of Duties

This notice also serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Administrative Protective Order

This notice also serves as a reminder to parties subject to administrative protective orders (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

Disclosure

We will disclose the calculations used in our analysis to parties to this proceeding within five days of the date of publication of this notice pursuant to 19 CFR 351.224(b).

These amended final results of administrative review are issued and published in accordance with sections 751(h) and 777(i)(1) of the Act and 19 CFR 351.224(e).

Dated: October 30, 2015.
Paul Piquado,
Assistant Secretary for Enforcement and Compliance.

[FR Doc. 2015-28248 Filed 11-4-15; 8:45 a.m.]

BILLING CODE 3510-DS-P